DEPARTMENT OF HOMELAND SECURITY

Federal Emergency Management Agency

44 CFR Part 67

[Docket No. FEMA-B-7718]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Cabarrus County, North Carolina and Incorporated Areas
Adams Creek | Approximately 150 feet upstream of NC 73 | None | +630 | Cabarrus County (Unincorporated Areas).
| Approximately 1,460 feet upstream of NC 73 Highway E | None | +630
Afton Run | Approximately 50 feet upstream of Dogwood Boulevard | None | +665 | City of Kannapolis.
| Approximately 1.5 miles upstream of Dogwood Boulevard | None | +710
Anderson Creek | Approximately 50 feet upstream of Bethel Church Road (State Road 1125) | None | +566 | Cabarrus County (Unincorporated Areas).
| Approximately 900 feet upstream of Sam Black Road (State Road 1127) | None | +613
Tributary 1 | At the confluence with Anderson Creek | None | +575 | Cabarrus County (Unincorporated Areas).
| At Sam Black Road (State Road 1127) | None | +611
Caldwell Creek Tributary | Approximately 1,125 feet upstream of the confluence with Caldwell Creek | +592 | +593 | Cabarrus County (Unincorporated Areas).
| Approximately 1,700 feet upstream of Pioneer Mill Road (State Road 1134) | None | +669
Chambers Branch | Approximately 110 feet upstream of U.S. Highway 29 | None | +702 | City of Kannapolis.
| Approximately 1,180 feet upstream of East 1st Street | None | +718
Clear Creek | At the confluence with Rocky River | +474 | +469 | Cabarrus County (Unincorporated Areas), Town of Midland.
| Approximately 1.6 miles upstream of Ben Black Road (State Road 1118) | None | +535
Coddle Creek | Approximately 150 feet downstream of Coddle Creek Dam | +621 | +620 | Cabarrus County (Unincorporated Areas).
| At the Rowan/Cabarrus/Iredell County boundary | +676 | +674
Tributary 1 | Approximately 500 feet upstream of the confluence with Coddle Creek | None | +543 | Cabarrus County (Unincorporated Areas), City of Concord.
| Approximately 1,800 feet upstream of Rocky River Road (State Road 1139) | None | +555
Tributary 2 | Approximately 950 feet upstream of the confluence with Coddle Creek | None | +543 | Cabarrus County (Unincorporated Areas).
| Approximately 1,300 feet upstream of Chapel Creek Road Southwest | None | +551 | City of Concord.
Tributary 3 | Approximately 200 feet upstream of the confluence with Coddle Creek | None | +569 | City of Concord.
| Approximately 1.0 mile upstream of Roberta Church Road | None | +598
Cold Water Creek | At the confluence of Little Cold Water Creek | None | +550 | Cabarrus County (Unincorporated Areas).
| Approximately 0.5 mile upstream of Moose Road | None | +653 | City of Concord, City of Kannapolis.
Common Ford Branch | Approximately 0.4 mile upstream of Penninger Road (State Road 2113) | None | +618 | Cabarrus County (Unincorporated Areas).
| Approximately 1.5 miles upstream of Penninger Road (State Road 2113) | None | +682
Dutch Buffalo Creek | Approximately 150 feet upstream of NC 73 | None | +524 | Cabarrus County (Unincorporated Areas).
| Approximately 1,120 feet upstream of Sapp Road (State Road 2402) | None | +684
Tributary 1 | At the confluence with Dutch Buffalo Creek | None | +674 | Unincorporated Areas of Cabarrus County.
| Approximately 0.7 mile upstream of Pless Road (State Road 2432) | None | +688
Horton Branch | Approximately 80 feet upstream of Bethel Church Road (State Road 1125) | None | +575 | Cabarrus County (Unincorporated Areas).
| Approximately 0.6 mile upstream of Sam Black Road (State Road 1127) | None | +632
Irish Buffalo Creek | Approximately 600 feet upstream of Cannon Farm Road | +732 | +733 | City of Kannapolis.
| Approximately 0.8 mile upstream of Cannon Farm Road | +740 | +743
Tributary 1 | Approximately 350 feet upstream of the confluence with Irish Buffalo Creek | None | +611 | City of Concord.
| Approximately 910 feet upstream of Hanover Drive Northwest | None | +639
Tributary 2 | Approximately 1,200 feet upstream of the confluence with Irish Buffalo Creek | None | +624 | City of Concord, City of Kannapolis.
| Approximately 1,950 feet upstream of Orphanage Road | None | +645
Tributary 3 | Approximately 750 feet upstream of the confluence with Irish Buffalo Creek | None | +671 | City of Kannapolis.
| Approximately 500 feet upstream of Mooresville Road | None | +704
Tributary 4 | Approximately 1,250 feet upstream of the confluence with Irish Buffalo Creek | None | +735 | City of Kannapolis.
| Approximately 0.7 mile upstream of the confluence with Irish Buffalo Creek | None | +745
Tributary 5 | Approximately 1,350 feet upstream of the confluence with Irish Buffalo Creek | +732 | +735 | City of Kannapolis.
| Approximately 0.7 mile upstream of the confluence with Irish Buffalo Creek | None | +750
Jones Branch | Approximately 500 feet upstream of the confluence with Rocky River | None | +530 | Cabarrus County (Unincorporated Areas).
| Approximately 1,690 feet upstream of Falcon Drive (State Road 1269) | None | +595
Lick Branch | At the confluence with Dutch Buffalo Creek | None | +666 | Cabarrus County (Unincorporated Areas).
| Approximately 1,160 feet upstream of Sapp Road (State Road 2402) | None | +740
Little Buffalo Creek | At the confluence with Dutch Buffalo Creek | None | +531 | Cabarrus County (Unincorporated Areas).
| Approximately 1.9 miles upstream of Drye Road (State Road 2443) | None | +593
Little Meadow Creek | Approximately 100 feet upstream of Reed Mine Road (State Road 1100) | None | +501 | Cabarrus County (Unincorporated Areas).
| Approximately 330 feet upstream of County Line Road (State Road 2623) | None | +607
Mallard Creek | Approximately 2,250 feet upstream of Morehead Road | +569 | +570 | Cabarrus County (Unincorporated Areas).
| At the Cabarrus/Mecklenberg County boundary | +573 | +576 | Town of Harrisburg.
Tributary 1 | Approximately 850 feet upstream of the confluence with Mallard Creek | None | +571 | Town of Harrisburg.
| At the Cabarrus/Mecklenberg County boundary | None | +590
Tributary 1A | Approximately 350 feet upstream of the confluence with Mallard Creek Tributary 1 | None | +571 | Town of Harrisburg.
| Approximately 1.0 mile upstream of the confluence with Mallard Creek Tributary 1 | None | +643
Tributary 1B | At the confluence with Mallard Creek Tributary 1 | None | +586 | Town of Harrisburg.
| Approximately 1,650 feet upstream of the confluence with Mallard Creek Tributary 1 | None | +623
Tributary 2 | At the confluence with Mallard Creek Tributary 1 | +570 | +573 | City of Concord, Town of Harrisburg.
| Approximately 1,290 feet upstream of Hudspeth Road (State Road 1302) | None | +634
Meadow Creek | Approximately 1,500 feet downstream of Reed Mine Road (State Road 1100) | None | +495 | Cabarrus County (Unincorporated Areas).
| Approximately 0.9 mile upstream of Reed Mine Road (State Road 1100) | None | +500
Mill Creek | At the confluence with Coddle Creek | +622 | +650 | Cabarrus County (Unincorporated Areas), City of Kannapolis.
| Approximately 100 feet upstream of the Cabarrus/Rowan County boundary | None | +715
Miller Branch | Approximately 250 feet upstream of the confluence with Irish Buffalo Creek | None | +656 | Cabarrus County (Unincorporated Areas), City of Kannapolis.
| Approximately 0.9 mile upstream of Mooresville Road | None | +767
Morris Branch | Approximately 660 feet upstream of the confluence with Rocky River | +567 | +566 | Town of Harrisburg.
| Approximately 1,280 feet upstream of Rocky River Crossing Road | +598 | +602
Muddy Creek | At the confluence with Rocky River | +479 | +478 | Cabarrus County (Unincorporated Areas), Town of Midland.
| At the confluence of Muddy Creek Tributary 1 | None | +492
Tributary 1 | At the confluence with Muddy Creek | None | +492 | Cabarrus County (Unincorporated Areas) Town of Midland.
| Approximately 150 feet upstream of NC 24-27 Highway E | None | +525
Overcash Branch | Approximately 1,000 feet upstream of the confluence with Irish Buffalo Creek | None | +664 | City of Kannapolis.
| Approximately 740 feet upstream of Quail Woods Court | None | +697
Park Creek | At the confluence with Coddle Creek | +648 | +652 | Cabarrus County (Unincorporated Areas).
| At the Cabarrus/Rowan County boundary | None | +679
Patterson Branch Tributary | Approximately 75 feet upstream of the confluence with Patterson Branch | +702 | +703 | City of Kannapolis.
| Approximately 1,800 feet upstream of Beaumont Avenue | None | +747
Ridenhour Branch | At the downstream side of Colfax Drive Southeast (State Road 2513) | None | +552 | Cabarrus County (Unincorporated Areas), City of Concord.
| Approximately 0.5 mile upstream of the confluence with Ridenhour Branch Tributary | None | +628
Ridenhour Branch Tributary | At the confluence with Ridenhour Branch | None | +599 | Cabarrus County (Unincorporated Areas), City of Concord.
| Approximately 1.2 miles upstream of Lake Lynn Road (State Road 2640) | None | +671
Rocky River | At the Union/Stanly/Cabarrus County boundary | +474 | +469 | Cabarrus County (Unincorporated Areas).
| At the Cabarrus/Mecklenberg/Iredell County boundary | None | +687 | City of Concord, City of Kannapolis, Town of Harrisburg, Town of Midland.
Tributary 11 | Approximately 200 feet downstream of NC 200 | None | +508 | Cabarrus County (Unincorporated Areas).
| Approximately 0.7 mile upstream of NC 200 | None | +555
Rogers Lake Branch | Approximately 100 feet upstream of Rogers Lake Road | None | +715 | City of Kannapolis.
| Approximately 190 feet upstream of Richard Avenue | None | +742
Royal Oaks Branch | Approximately 350 feet upstream of the confluence with Cold Water Creek | None | +582 | Cabarrus County (Unincorporated Areas), City of Concord.
| Approximately 650 feet upstream of Lake Concord Road | None | +660 | City of Kannapolis.
Shamrock Branch | Approximately 75 feet downstream of Wilson Street | None | +595 | City of Concord.
| Approximately 1,050 feet upstream of Shamrock Street Northeast | None | +644
Stricker Branch | Approximately 750 feet upstream of the confluence with Irish Buffalo Creek | None | +597 | City of Concord.
| Approximately 180 feet upstream of NC 73 | None | +636
Threemile Branch | At the confluence with Cold Water Creek | None | +558 | City of Concord, City of Kannapolis.
| Approximately 370 feet upstream of Plymouth Street | None | +751
Water Creek | Approximately 500 feet upstream of the confluence with Little Cold Water Creek | None | +586 | Cabarrus County (Unincorporated Areas).
| Approximately 0.7 mile upstream of Gold Hill Road (State Road 2408) | None | +625
Yow Branch | Approximately 80 feet upstream of NC 200 | None | +507 | Cabarrus County (Unincorporated Areas), Town of Mount Pleasant.
| Approximately 1,130 feet upstream of NC 200 Highway | None | +507
* National Geodetic Vertical Datum.
# Depth in feet above ground.
+ North American Vertical Datum.
ADDRESSES
City of Concord
Maps are available for inspection at City of Concord GIS Division, 66 Union Street South, Concord, North Carolina.
Send comments to The Honorable J. Scott Padgett, Mayor of the City of Concord, P.O. Box 308, Concord, North Carolina 28026.
City of Kannapolis
Maps are available for inspection at Kannapolis City Hall, 246 Oak Avenue, Kannapolis, North Carolina.
Send comments to The Honorable Bob Misenheimer, Mayor of the City of Kannapolis, 246 Oak Avenue, Kannapolis, North Carolina 28081.
Town of Harrisburg
Maps are available for inspection at Harrisburg Town Hall, 4100 Main Street, Suite 101, Harrisburg, North Carolina.
Send comments to The Honorable Tim Hagler, Mayor of the Town of Harrisburg, P.O. Box 100, Harrisburg, North Carolina 28075.
Town of Midland
Maps are available for inspection at Midland Town Hall, 4293B Highway 24-27 East, Midland, North Carolina.
Send comments to The Honorable John Crump, Mayor of the Town of Midland, 4293B Highway 24-27 East, Midland, North Carolina 28107.
Town of Mount Pleasant
Maps are available for inspection at Mount Pleasant Town Hall, 8590 Park Drive, Mount Pleasant, North Carolina.
Send comments to The Honorable Troy Barnhardt, Mayor of the Town of Mount Pleasant, P.O. Box 787, Mount Pleasant, North Carolina 28124.
Cabarrus County (Unincorporated Areas)
Maps are available for inspection at Cabarrus County Planning Services Department, 65 Church Street Southeast, Concord, North Carolina.
Send comments to Mr. John D. Day, Cabarrus County Manager, 65 Church Street Southeast, Concord, North Carolina 28025.
Henderson County, North Carolina and Incorporated Areas
Allen Branch | At the confluence with Clear Creek | None | +2,081 | Henderson County (Unincorporated Areas), City of Hendersonville.
| Approximately 200 feet upstream of Luther Capell Lane | None | +2,183
Bat Fork Creek | At the confluence with Mud Creek | +2,084 | +2,082 | Henderson County (Unincorporated Areas), City of Hendersonville.
| Approximately 200 feet upstream of U.S. 176 | None | +2,159
Battle Creek | At the downstream side of U.S. 64 | None | +2,069 | Henderson County (Unincorporated Areas).
| Approximately 0.4 mile upstream of Battle Creek Road (State Road 1211) | None | +2,082
Big Willow Creek | Approximately 0.4 mile upstream of the confluence with French Broad River | None | +2,081 | Henderson County (Unincorporated Areas).
| At the confluence of South Fork Big Willow Creek and North Fork Big Willow Creek | None | +2,081
Tributary 1 | Approximately 1,200 feet upstream of the confluence with Big Willow Creek | +2,081 | +2,104 | Henderson County (Unincorporated Areas).
| Approximately 40 feet upstream of Lakeshore Drive | +2,081 | +2,109
Boylston Creek | Approximately 50 feet downstream of Banner Farm Road | +2,173 | +2,172 | Town of Mills River.
| Approximately 230 feet upstream of Turkey Pen Gap Road | None | +2,190
Tributary 7 | At the confluence with Boylston Creek | None | +2,103 | Henderson County (Unincorporated Areas), Town of Mills River.
| Approximately 1,090 feet upstream of Cross Creek Court | None | +2,128
Britton Creek | At the confluence with Mud Creek | +2,082 | +2,081 | Henderson County (Unincorporated Areas), City of Hendersonville.
| Approximately 90 feet upstream of Mistletoe Trail | None | +2,284
Tributary 2 | At the confluence with Britton Creek | +2,083 | +2,082 | Henderson County (Unincorporated Areas), City of Hendersonville.
| Approximately 150 feet upstream of Stonebrook Drive (State Road 2050) | None | +2,154
Broad River | At the Henderson/Rutherford County boundary | None | +1,411 | Henderson County (Unincorporated Areas).
| At the Buncombe/Henderson County boundary | None | +1,719
Cane Creek | Approximately 100 feet upstream of I-26 | +2,061 | +2,062 | Henderson County (Unincorporated Areas).
| Approximately 350 feet downstream of the confluence with Robinson Creek | +2,095 | +2,094 | Town of Fletcher.
Clear Creek | At the confluence with Mud Creek | +2,079 | +2,078 | Henderson County (Unincorporated Areas).
| Approximately 1.0 mile upstream of Apple Valley Road (State Road 1572) | None | +2,171
Devils Fork | At the confluence with Bat Fork Creek | +2,086 | +2,083 | Henderson County (Unincorporated Areas), City of Hendersonville.
| At Old Dana Road (State Road 1738) | +2,136 | +2,135
Dunn Creek | At the confluence with Bat Fork Creek | None | +2,099 | Henderson County (Unincorporated Areas), City of Hendersonville.
| Approximately 570 feet upstream of Howard Gap Road (State Road 1006) | None | +2,144
Featherstone Creek | At the confluence with Mud Creek | +2,071 | +2,069 | Henderson County (Unincorporated Areas).
| Approximately 240 feet upstream of Locust Grove Road (State Road 1528) | None | +2,253
Finley Creek | At the confluence with Perry Creek and Shepherd Creek | None | +2,131 | Henderson County (Unincorporated Areas).
| Approximately 1,980 feet upstream of Old Kanuga Road (State Road 1138) | None | +2,146
Gash Creek | Approximately 400 feet downstream of Etowah School Road (State Road 1205) | None | +2,081 | Henderson County (Unincorporated Areas).
| Approximately 1,250 feet upstream of U.S. 64 | None | +2,101
Green River | At the Henderson/Polk County boundary | None | +1,442 | Henderson County (Unincorporated Areas).
| Approximately 300 feet upstream of Bear Paw Ridge Road | None | +2,166
Henderson Creek | At the confluence with Clear Creek | None | +2,118 | Henderson County (Unincorporated Areas).
| Approximately 1,240 feet upstream of Pace Road (State Road 1762) | None | +2,146
Hickory Creek (near Gerton) | At the confluence with Broad River | None | +1,483 | Henderson County (Unincorporated Areas).
| Approximately 320 feet upstream of Boulder Lane | None | +3,652
Higgins Branch | At the confluence with Kimsey Creek | None | +2,062 | Town of Fletcher.
| Approximately 1,820 feet upstream of Birkshire Way | None | +2,178
Hoopers Creek | At the confluence with Cane Creek | +2,075 | +2,074 | Henderson County (Unincorporated Areas), Town of Fletcher.
| Approximately 30 feet downstream of Lindsey Loop Road (State Road 1571) | None | +2,181
Kimsey Creek | Approximately 50 feet upstream of U.S. 74 | +2,061 | +2,062 | Henderson County (Unincorporated Areas), Town of Fletcher.
| Approximately 1,880 feet upstream of Kimzey Creek Drive | None | +2,155
King Creek | At the confluence with Bat Fork Creek | None | +2,084 | Henderson County (Unincorporated Areas), City of Hendersonville, Village of Flat Rock.
| Approximately 0.5 mile upstream of West Blue Ridge Road (State Road 1812) | None | +2,178
Tributary 3 | At the confluence with King Creek | None | +2,099 | Henderson County (Unincorporated Areas), City of Hendersonville, Village of Flat Rock.
| Approximately 210 feet upstream of Rutledge Drive (State Road 1166) | None | +2,171
Kyles Creek | At the confluence with Clear Creek | None | +2,118 | Henderson County (Unincorporated Areas).
| Approximately 140 feet downstream of Terrys Gap Road (State Road 1565) | None | +2,187
Lanning Mill Creek | At the confluence with Kyles Creek | None | +2,176 | Henderson County (Unincorporated Areas).
| Approximately 800 feet upstream of the confluence with Kyles Creek | None | +2,187
Lewis Creek | At the confluence with Clear Creek | None | +2,126 | Henderson County (Unincorporated Areas).
| Approximately 80 feet downstream of Pilot Mountain Road (State Road 1783) | None | +2,169
Little Willow Creek | At Pleasant Grove Road (State Road 1191) | None | +2,083 | Henderson County (Unincorporated Areas).
| Approximately 1.6 miles upstream of the confluence with French Broad River | None | +2,113
Mill Pond Creek | Approximately 175 feet upstream of Hysong Lane | +2,076 | +2,075 | Henderson County (Unincorporated Areas).
| Approximately 0.4 mile upstream of Mountain Road (State Road 1381) | None | +2,202 |
Mills River | Approximately 0.6 mile upstream of Hooper Lane (State Road 1353) | None | +2,063 | Town of Mills River.
| At the confluence of North Fork Mills River and South Fork Mills River | None | +2,119 |
Mud Creek | Approximately 1.4 miles upstream of the confluence with French Broad River | +2,063 | +2,062 | Henderson County (Unincorporated Areas), City of Hendersonville.
| Approximately 300 feet upstream of Walnut Cove Road (State Road 1125) | None | +2,161 | Town of Fletcher, Village of Flat Rock.
North Fork Big Willow Creek | At the confluence with Big Willow Creek | None | +2,081 | Henderson County (Unincorporated Areas).
| Approximately 0.5 mile upstream of the confluence with Big Willow Creek | None | +2,099 |
North Fork Mills River | At the confluence with Mills River | None | +2,119 | Henderson County (Unincorporated Areas).
| Approximately 1.3 miles upstream of Rush Branch Road | None | +2,259 |
Perry Creek | At the confluence with Shepherd Creek | None | +2,131 | Henderson County (Unincorporated Areas).
| Approximately 1,530 feet upstream of Price Road (State Road 1137) | None | +2,147 |
Piney Branch | At the confluence with South Fork Big Willow Creek | None | +2,082 | Henderson County (Unincorporated Areas).
| Approximately 0.8 mile upstream of Big Willow Road (State Road 1191) | None | +2,218 |
Reedypatch Creek | At the confluence with Broad River | None | +1,461 | Henderson County (Unincorporated Areas).
| Approximately 540 feet upstream of Bald Rock Road (State Road 1710) | None | +2,176 | Henderson County (Unincorporated Areas).
Rock Creek (into Green River) | At the confluence with Green River | None | +2,067 | Henderson County (Unincorporated Areas).
| Approximately 0.5 mile upstream of Green River Road (State Road 1106) | None | +2,103 |
Shaw Creek | At the downstream side of U.S. 64 | None | +2,069 | Henderson County (Unincorporated Areas).
| Approximately 1,400 feet upstream of Turley Falls Road (State Road 1215) | None | +2,122 |
Shephard Creek | At South Lakeside Drive (State Road 1148) | None | +2,126 | Henderson County (Unincorporated Areas).
| At the confluence of Perry Creek and Finley Creek | None | +2,131 |
South Fork Big Willow Creek | At the confluence with Big Willow Creek | None | +2,081 | Henderson County (Unincorporated Areas).
| Approximately 1,810 feet upstream of Patterson Road (State Road 1194) | None | +2,103 |
South Fork Mills River | At the confluence with Mills River | None | +2,119 | Henderson County (Unincorporated Areas).
| Approximately 3.2 miles upstream of Dalton Road (State Road 1340) | None | +2,258 | Town of Mills River.
South Wash Creek | At the confluence with Wash Creek | None | +2,153 | Town of Laurel Park.
| Approximately 50 feet downstream of Lake Drive | None | +2,217 |
Tonys Creek | At the confluence with Shepherd Creek | None | +2,126 | Henderson County (Unincorporated Areas), Town of Laurel Park.
| Approximately 0.5 mile upstream of Willow Road (State Road 1171) | None | +2,201
Wash Creek | Approximately 400 feet upstream of the confluence with Mud Creek | +2,090 | +2,091 | Henderson County (Unincorporated Areas).
| Approximately 330 feet upstream of Railroad | None | +2,202 | City of Hendersonville, Town of Laurel Park.
Wolfpen Creek | Approximately 500 feet upstream of the confluence with Clear Creek | +2,092 | +2,091 | Henderson County (Unincorporated Areas).
| Approximately 90 feet upstream of Chestnut Gap Road (State Road 1742) | None | +2,130 | City of Hendersonville.
* National Geodetic Vertical Datum.
+ North American Vertical Datum.
# Depth in feet above ground.
ADDRESSES
City of Hendersonville
Maps are available for inspection at Hendersonville City Hall, 145 Fifth Avenue East, Hendersonville, North Carolina.
Send comments to The Honorable Greg Newman, Mayor of the City of Hendersonville, P.O. Box 1670, Hendersonville, North Carolina 28793.
Town of Fletcher
Maps are available for inspection at Fletcher Town Hall, 4005 Hendersonville Road, Fletcher, North Carolina.
Send comments to The Honorable Mark Biberdors, Mayor of the Town of Fletcher, 4005 Hendersonville Road, Fletcher, North Carolina 28732.
Town of Laurel Park
Maps are available for inspection at Laurel Park Town Hall, 441 White Pine Drive, Laurel Park, North Carolina.
Send comments to The Honorable Henry T. Johnson, Mayor of the Town of Laurel Park, 441 White Pine Drive, Laurel Park, North Carolina 28739.
Town of Mills River
Maps are available for inspection at Mills River Town Hall, 5046 Boylston Highway, Suite 3, Mills River, North Carolina.
Send comments to The Honorable Roger Snyder, Mayor of the Town of Mills River, 5046 Boylston Highway, Suite 3, Mills River, North Carolina 28759.
Henderson County (Unincorporated Areas)
Maps are available for inspection at Henderson County Administration Building, 100 North King Street, Hendersonville, North Carolina.
Send comments to Mr. Steve Wyatt, Henderson County Manager, 100 North King Street, Hendersonville, North Carolina 28792.
Village of Flat Rock
Maps are available for inspection at Flat Rock Village Hall, 110 Village Center Drive, Flat Rock, North Carolina.
Send comments to The Honorable Ray E. Shaw, Jr., Mayor of the Village of Flat Rock, P.O. Box 1288, Flat Rock, North Carolina 28731.
Clinton County, Pennsylvania, and Incorporated Areas
Fishing Creek | Approximately 550 feet downstream of Peale Avenue | +567 | +569 | Borough of Mill Hall, Township of Bald Eagle.
| Approximately 4420 feet upstream of Furnace Road (Township Route 323) | +860 | +862 | Township of Lamar, Township of Porter.
* National Geodetic Vertical Datum.
+ North American Vertical Datum.
# Depth in feet above ground.
ADDRESSES
Borough of Mill Hall
Maps are available for inspection at Beach Creek Avenue, Mill Hall, PA 17751.
Send comments to The Honorable Thomas E. Bettner, Mayor, Mill Hall Borough, 117 North Chestnut Street, Mill Hall, PA 17751.
Township of Bald Eagle
Maps are available for inspection at 604 Lusk Run Road, Mill Hall, PA 17751.
Send comments to Mr. Cristopher Dwyer, Chairman Supervisor, Bald Eagle Township, 604 Lusk Run Road, Mill Hall, PA 17751.
Township of Lamar
Maps are available for inspection at 148 Beagle Road, Mill Hall, PA 17751.
Send comments to Mr. Michael L. Geyer, Chairman, Lamar Township, 148 Beagle Road, Mill Hall, PA 17751.
Township of Porter
Maps are available for inspection at 153 Clintondale Hill Road, Mill Hall, PA 17751.
Send comments to Mr. Larry Dotterer, Chairman, Porter Township, P.O. Box 95, Lamar, PA 16848.

(Catalog of Federal Domestic Assistance No. 97.022, “Flood Insurance.”)

Dated: June 18, 2007.
David I. Maurstad,
Federal Insurance Administrator of the National Flood Insurance Program, Federal Emergency Management Agency, Department of Homeland Security.

[FR Doc. E7-12691 Filed 6-29-07; 8:45 am]

BILLING CODE 9110-12-P